DEPARTMENT OF THE INTERIOR

Bureau of Land Management

[CO-200-1220-PA]

Special Rule Regarding Operation of Motorized Vehicles

AGENCY: Bureau of Land Management, Interior.

ACTION: Implementation of a special rule regarding the operation of motorized vehicles within the Texas Creek, Penrose, Grand Canyon Hills, and Sand Gulch OHV “Open” areas on public lands administered by the Royal Gorge Field Office, Colorado.

SUMMARY: Off-highway vehicle (OHV) use in the Texas Creek, Penrose, Grand Canyon Hills, and Sand Gulch OHV “Open” areas has resulted in unacceptable impacts to the public lands, with the potential for more in the future. As a result, the Royal Gorge Field Office is implementing the special rule provision of 43 CFR 8341.2 to address this situation. The Special Rule affects the following sites, all found in Fremont County: 9,720 acres in Texas Creek, located north of Texas Creek; 3,174 acres in Penrose; 2,012 acres in Grand Canyon Hills, located west of Canon City; and 1,449 acres in Sand Gulch, located north of Howard. The use of the Special Rule changes the OHV designation of these four areas to “limited to existing roads and trails”. Future interdisciplinary planning will determine the appropriate designated travel routes in these areas.

EFFECTIVE DATE: The implementation of the Special Rule goes into effect with the publication of this notice and shall remain in effect for one year. At the end of each year period it may be reviewed and extended.

ADDRESSES: If you wish to comment or request additional information, you may do so by any of several methods. You may mail or hand deliver your comments or requests to: Field Office Manager, Bureau of Land Management, Royal Gorge Field Office, 3170 East Main Street, Canon City, CO 81212. You may also comment via email to: RGFOWEB@blm.gov. Please submit comments as an ASCII file avoiding the use of special characters and any form of encryption. Please also include your name and address in your email message. Comments, including names and addresses of respondents, will be available for public review at the Bureau of Land Management, Royal Gorge Field Office, 3170 East Main Street, Canon City, CO during regular business hours. Individual respondents may request confidentially. If you wish to withhold your name and/or address from public review or from disclosure under the Freedom of Information Act, you must state this prominently at the beginning of your written comment. Such requests will be honored to the extent allowed by law. We will not, however, consider anonymous comments. All submissions from organizations or businesses, and from individuals identifying themselves as representatives or officials or organizations or businesses, are available for public inspection in their entirety.

FOR FURTHER INFORMATION CONTACT: Levi D. Deike, Field Office Manager or Diana Kossnar, Outdoor Recreation Planner, at the address listed above, 719-269-8500, or John Nahomenuk, Outdoor Recreation Planner, 307 W. Sackett Ave., Salida, CO 81201, 719-539-7289.

SUPPLEMENTARY INFORMATION: The Special Rule provision of 43 CFR 8341.2 allows the authorized officer to close certain areas to specific types of OHV use. In the case of the Texas Creek, Penrose, Grand Canyon Hills, and Sand Gulch OHV “Open” areas, the authorized officer determines that the areas are closed to all forms of OHV use that goes off of existing travel routes. This then effectively changes the OHV designation for the areas to “limited to existing roads and trails”, the same designation that is found on the surrounding public lands. The Special Rule is being implemented to preclude current and potential impacts to soils, vegetation, wildlife, and wildlife habitat.

The Royal Gorge Field Office will follow the implementation of this Special Rule with amendments to the Royal Gorge Resource Management Plan. The plan amendment will be completed with full public involvement and the other requirements of 43 CFR 1610.5-5.

This Special Rule does not apply to emergency, law enforcement, and federal or other government vehicles while being used for official or emergency purposes, or to any vehicle whose use is expressly authorized or otherwise officially approved by BLM. Violation of this order is punishable by fines and/or imprisonment as defined in 18 U.S.C. 3571. Notice of this Special Rule and detailed maps of the four areas affected will be posted at the Royal Gorge Field Office in Canon City and the Arkansas Headwaters Recreation Area Office in Salida.

Levi D. Deike,
Field Office Manager.

[FR Doc. 01-12800 Filed 5-21-01; 8:45 am]

BILLING CODE 4310-JB-M